DEPARTMENT OF COMMERCE

Foreign-Trade Zones Board

[Order No. 1727]

Grant of Authority for Subzone Status; ThyssenKrupp Steel and Stainless USA, LLC; (Stainless and Carbon Steel Products) Calvert, AL

Pursuant to its authority under the Foreign-Trade Zones Act of June 18, 1934, as amended (19 U.S.C. 81a-81u), the Foreign-Trade Zones Board (the Board) adopts the following Order:

Whereas, the Foreign-Trade Zones Act provides for “ * * * the establishment * * * of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board's regulations (15 CFR part 400) provide for the establishment of special-purpose subzones when existing zone facilities cannot serve the specific use involved, and when the activity results in a significant public benefit and is in the public interest;

Whereas, the City of Mobile, grantee of Foreign-Trade Zone 82, has made application to the Board for authority to establish a special-purpose subzone at the stainless and carbon steel products manufacturing facility of ThyssenKrupp Steel and Stainless USA, LLC, located in Calvert, Alabama (FTZ Docket 51-2008, filed 10-1-2008);

Whereas, notice inviting public comment has been given in the Federal Register (73 FR 58535-58536, 10-7-08; 74 FR 38401, 8-3-09; 74 FR 47921, 9-18-09; 75 FR 17692-17693, 4-7-2010) and the application has been processed pursuant to the FTZ Act and the Board's regulations; and,

Whereas, the Board adopts the findings and recommendations of the examiner's report, and finds that the requirements of the FTZ Act and Board's regulations would be satisfied, and that the proposal would be in the public interest if subject to the restrictions listed below;

Now, therefore, the Board hereby grants authority for subzone status for activity related to the manufacturing of stainless and carbon steel products at the facility of ThyssenKrupp Steel and Stainless USA, LLC, located in Calvert, Alabama (Subzone 82I), as described in the application and Federal Register notice, subject to the FTZ Act and the Board's regulations, including Section 400.28, and further subject to the following conditions:

1. Privileged foreign status (19 CFR 146.41) must be elected on all foreign status ferrosilicon, molybdenum and titanium (HTSUS 7202.21, 8102.94, 8108.20 and 8108.90) admitted to the subzone.

2. Approval is for an initial period of five years, subject to extension upon review.

3. ThyssenKrupp shall submit supplemental reporting data, as specified by the Executive Secretary, for the purpose of monitoring by the FTZ staff.

Signed at Washington, DC this 20th day of December 2010.
Ronald K. Lorentzen,
Deputy Assistant Secretary for Import Administration, Alternate Chairman, Foreign-Trade Zones Board.
Andrew McGilvray,
Executive Secretary.

[FR Doc. 2010-33132 Filed 12-30-10; 8:45 am]

BILLING CODE P